DEPARTMENT OF COMMERCE

International Trade Administration

[Application No. 88-10A16]

Export Trade Certificate of Review

ACTION: Notice of Issuance of an Amended Export Trade Certificate of Review to Wood Machinery Manufacturers of America (“WMMA”).

SUMMARY: The U.S. Department of Commerce has issued an amended Export Trade Certificate of Review (“Certificate”) to the Wood Machinery Manufacturers of America (“WMMA”) on July 9, 2008. WMMA's application to amend its Certificate was announced in the Federal Register on April 21, 2008 (73 FR 21316). The original Certificate No. 88-00016 was issued to WMMA on February 3, 1989, and announced in the Federal Register on February 9, 1989 (54 FR 6312). The most recent amendment, No. 88-9A016, was issued to WMMA on August 8, 2005, and announced in the Federal Register on August 12, 2005 (70 FR 47178).

FOR FURTHER INFORMATION CONTACT: Jeffrey Anspacher, Director, Export Trading Company Affairs, International Trade Administration, by telephone at (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2006).

Export Trading Company Affairs is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

WMMA's Export Trade Certificate of Review has been amended to:

1. Add each of the following companies as a new “Member” of the Certificate within the meaning of section 325.2(l) of the Regulations (15 CFR 325.2(l)): Mattison Rotary Lathes, LLC, La Center, Kentucky; Safety Speed Cut Manufacturing Company, Inc., Ham Lake, Minnesota; Western Cutterheads, Inc., La Center, Kentucky.

2. Reinstate as a “Member” of the Certificate within the meaning of section 325.2(l) of the Regulations (15 CFR 325.2(l)): The Original Saw Co. (“OSC”), Britt, Iowa. OSC ceased to be a Member on April 12, 2007, when WMMA submitted an annual report that relinquished OSC's membership. WMMA seeks to reinstate OSC as a Member of the Certificate.

3. Delete the following company as a “Member” of WMMA's Certificate: Warsaw Machinery, Inc., Warsaw, Indiana.

The effective date of the amended certificate is April 10, 2008, the date on which WMMA's application to amend was deemed submitted. A copy of the amended Certificate will be kept in the International Trade Administration's Freedom of Information Records Inspection Facility, Room 4001, U.S. Department of Commerce, 14th Street and Constitution Avenue, NW., Washington, DC 20230.

Dated: July 11, 2008.
Jeffrey Anspacher,
Director, Export Trading Company Affairs.

[FR Doc. E8-16285 Filed 7-16-08; 8:45 am]

BILLING CODE 3510-DR-P